DEPARTMENT OF LABOR

Employment and Training Administration

[TA-W-55,735]

Invista S.A.R.L. Kinston, NC; Notice of Termination of Investigation

Pursuant to section 221 of the Trade Act of 1974, as amended, an investigation was initiated on October 5, 2003, in response to a petition filed by a company official on behalf of workers at Invista, S.A.R.L., Kinston, North Carolina. Workers at the subject firm produced light denier dacron industrial sewing thread.

The Department of Labor issued a negative determination applicable to the petitioning group of workers on September 29, 2004 (TA-W-55,516). No new information or change in circumstances is evident which would result in a reversal of the Department's previous determination. Consequently, further investigation would serve no purpose, and the investigation has been terminated.

Signed in Washington, DC this 7th day of October, 2004.
Richard Church,
Certifying Officer, Division of Trade Adjustment Assistance.

[FR Doc. E4-2852 Filed 10-25-04; 8:45 am]

BILLING CODE 4510-30-P